DEPARTMENT OF THE INTERIOR

Bureau of Land Management

[LLMT926000-L14400000.BJ0000); 16XL1109AF; MO#4500087309]

Notice of Filing of Plats of Survey; North Dakota

AGENCY: Bureau of Land Management, Interior.

ACTION: Notice of filing of plats of survey.

SUMMARY: The Bureau of Land Management (BLM) will file the plat of survey of the lands described below in the BLM Montana State Office, Billings, Montana, on December 17, 2015.

DATES: Protests of the survey must be filed before December 17, 2015 to be considered.

ADDRESSES: Protests of the survey should be sent to the Branch of Cadastral Survey, Bureau of Land Management, 5001 Southgate Drive, Billings, Montana 59101-4669.

FOR FURTHER INFORMATION CONTACT: Marvin Montoya, Cadastral Surveyor, Branch of Cadastral Survey, Bureau of Land Management, 5001 Southgate Drive, Billings, Montana 59101-4669, telephone (406) 896-5124 or (406) 896-5003, Marvin_Montoya@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This survey was executed at the request of the Chief, Branch of Fluid Minerals, Bureau of Land Management, Montana State Office, Billings, Montana, and was necessary to determine Federal Leasable Mineral Lands.

The lands we surveyed are:

5th Principal Meridian, North Dakota

T. 148 N., R. 96 W.

The plat, in twelve sheets, representing the dependent resurvey of a portion of the 12th Standard Parallel, through Range 96 West, a portion of the 14th Guide Meridian, through Township 148 North, a portion of the west boundary, a portion of the subdivisional lines, the adjusted original meanders of the former left and right banks of the Little Missouri River, and certain division of accretion lines, and the subdivision of certain sections, and the survey of the meanders of the present left and right banks of the Little Missouri River, the limits of erosion in sections 7, 18, 25, 26, and 36, and certain division of accretion lines, Township 148 North, Range 96 West, Fifth Principal Meridian, North Dakota, was accepted September 25, 2015.

We will place a copy of the plat, in twelve sheets, and related field notes we described in the open files. They will be available to the public as a matter of information. If the BLM receives a protest against this survey, as shown on this plat, in two sheets, prior to the date of the official filing, we will stay the filing pending our consideration of the protest. We will not officially file this plat, in twelve sheets, until the day after we have accepted or dismissed all protests and they have become final, including decisions or appeals.

Authority: 43 U.S.C. Chap. 3.

Joshua F. Alexander,
Acting Chief, Branch of Cadastral Survey, Division of Energy, Minerals and Realty.

[FR Doc. 2015-29206 Filed 11-16-15; 8:45 am]

BILLING CODE 4310-DN-P